COMMITTEE FOR PURCHASE FROM PEOPLE WHO ARE BLIND OR SEVERELY DISABLED

Procurement List: Additions and Deletions

AGENCY: Committee for Purchase From People Who Are Blind or Severely Disabled.

ACTION: Additions to and Deletions from the Procurement List.

SUMMARY: This action adds to the Procurement List a product and service to be furnished by nonprofit agencies employing persons who are blind or have other severe disabilities, and deletes from the Procurement List a product and service previously furnished by such agencies.

EFFECTIVE DATE: March 23, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On December 7 and December 21, 2007, the Committee for Purchase From People Who Are Blind or Severely Disabled published notice (72 FR 69181; 72666) of proposed additions to the Procurement List.

After consideration of the material presented to it concerning capability of qualified nonprofit agencies to provide the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

Pallet, Demo Sideboard

NSN: 3990CAAA9243—30″ x 44″

Coverage: C-List for the requirements of the Crane Army Ammunition Activity, Crane, IN

NPA: Bona Vista Programs, Inc., Kokomo, IN

Contracting Activity: U.S. Department of the Defense, Crane Army Ammunition Activity, Crane, IN

Service

Service Type/Location: Supply Store Operation

U.S. Nuclear Regulatory Commission, Rockville, MD

NPA: Blind Industries & Services of Maryland, Baltimore, MD

Contracting Activity: U.S. Nuclear Regulatory Commission, Washington, DC

Comments were received from a reseller of office products in the Washington, DC area. The commenter objected to the opening of the supply store because existing supply stores operated under the AbilityOne (formerly JWOD) Program at other Federal agencies or installations have already reduced commercial resellers' ability to compete for the Government's business. The commenter said that announcements and guidance issued by Federal agencies or installations with such stores often emphasize that the use of AbilityOne products is mandatory, which leaves an impression that use of the store is mandatory or that failure to use the store may result in loss of purchasing authority. The commenter said that the opening of the AbilityOne store at the Nuclear Regulatory Commission (NRC) will eliminate its opportunity to do business with the agency. The commenter also said that the AbilityOne Program's past addition of products to its Procurement List has resulted in a significant cumulative loss of sales for his company.

The Committee, in accordance with its regulations, considers impact on a situation-specific basis, looking at whether the action currently proposed would result in a severe adverse impact on the current or most recent contractor. The Committee found that there was no current contractor for the operation of a supply store on the NRC campus, and that none of the primary office supply resellers already doing business with the NRC were providing walk-in store service. The Committee's addition of the NRC's requirement for operation of a supply store to its Procurement List, on its own, does not make the customers' use of the supply store mandatory, nor does it preclude the NRC's continued purchases from online retailers in accordance with the agency's own procurement rules. The Committee defers purchasing guidance for NRC employees to the NRC officials involved. Regarding past Procurement List additions affecting the commenter, the Committee's records show that each action was taken into consideration by the Committee in accordance with its suitability criteria and was deemed not to constitute a severe adverse impact on the current contractor.

Deletions

On December 14 and December 21, 2007, the Committee for Purchase From People Who Are Blind or Severely Disabled published notice (72 FR 71114; 72667) of proposed deletions to the Procurement List.

After consideration of the relevant matter presented, the Committee has determined that the product and service listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the product and service to the Government.

3. There are no known regulatory alternatives which would accomplish the objectives of the Javits-Wagner-O'Day Act (41 U.S.C. 46-48c) in connection with the product and service deleted from the Procurement List.

End of Certification

Accordingly, the following product and service are deleted from the Procurement List:

Product

Paper, Kraft Wrapping

NSN: 8135-00-160-7758

NSN: 8135-00-160-7772

NSN: 8135-00-160-7778

NSN: 8135-00-286-7317

NSN: 8135-00-290-3407

NPA: Cincinnati Association for the Blind, Cincinnati, OH

Contracting Activity: General Services Administration, Office Supplies & Paper Products Acquisition Ctr, New York, NY

Service

Service Type/Location: Microfilming

U.S. Bureau of the Census, Washington, DC

NPA: Business Technology Career Opportunities (BTCO), Wichita, KS

Contracting Activity: U.S. Bureau of the Census, Washington, DC

Kimberly M. Zeich,
Director, Program Operations.

[FR Doc. E8-3329 Filed 2-21-08; 8:45 am]

BILLING CODE 6353-01-P